DEPARTMENT OF HOUSING AND URBAN DEVELOPMENT

[Docket No. FR-5870-D-02]

Order of Succession for the Office of Housing

AGENCY: Office of the Secretary, HUD.

ACTION: Notice of Order of Succession.

SUMMARY: In this notice, the Secretary designates the Order of Succession for the Office of Housing. This Order of Succession supersedes all prior orders of succession for the Assistant Secretary for Housing—FHA Commissioner, including the Order of Succession published on January 3, 2013.

DATES: Effective upon date of signature.

FOR FURTHER INFORMATION CONTACT: Laura M. Marin, Associate General Deputy Assistant Secretary, Office of the Assistant Secretary for Housing—Federal Housing Commissioner, Department of Housing and Urban Development, 451 7th Street SW., Room 9106, Washington, DC 20410; telephone number 202-708-2601. (This is not a toll-free number.) Persons with hearing or speech impairments may call HUD's toll-free Federal Relay Service at 800-877-8339.

SUPPLEMENTARY INFORMATION: The Secretary of Housing and Urban Development is issuing this Order of Succession of officials authorized to perform the functions and duties of the Office of the Assistant Secretary for Housing—FHA Commissioner when the Assistant Secretary—FHA Commissioner is not available to exercise the powers or perform the duties of the office. This publication supersedes all prior orders of succession for the Office of Housing, including the Order of Succession notice published on January 3, 2013.

Section A. Order of Succession

During any period, when the Assistant Secretary for Housing—FHA Commissioner is not available to exercise the powers or perform the duties of the Assistant Secretary for Housing—FHA Commissioner, the following officials within the Office of Housing are hereby designed to exercise the powers and perform the duties of the Office, including the authority to waive regulations:

(1) Principal Deputy Assistant Secretary for Housing;

(2) General Deputy Assistant Secretary for Housing;

(3) Associate General Deputy Assistant Secretary for Housing;

(4) Deputy Assistant Secretary for Single Family Housing;

(5) Deputy Assistant Secretary for Multifamily Housing;

(6) Deputy Assistant Secretary for Risk Management and Regulatory Affairs;

(7) Deputy Assistant Secretary for Housing Counseling;

(8) Deputy Assistant Secretary for Finance and Budget;

(9) Deputy Assistant Secretary for Operations;

(10) Deputy Assistant Secretary for Healthcare Programs.

These officials shall perform the functions and duties of the office in the order specified herein, and no official shall serve unless all other officials whose positions precede his/hers in this order are unable to act by reason of absence, disability, or vacancy in office.

Section B. Authority Superseded

This Order of Succession supersedes all prior orders of succession for the Assistant Secretary for Housing—FHA Commissioner, including the one published on January 3, 2013 at 78 FR 316.

Authority: Section 7(d), Department of Housing and Urban Development Act, 42 U.S.C. 3535(d).

Dated: April 13, 2015.
Julián Castro,
Secretary of Housing and Urban Development.

[FR Doc. 2015-08947 Filed 4-17-15; 8:45 am]

BILLING CODE 4210-67-P